COMMISSION ON CIVIL RIGHTS

Sunshine Act Meeting

AGENCY: Commission on Civil Rights.

Date and Time: Friday, April 11, 2003 9:30 a.m.

Place: U.S. Commission on Civil Rights, 624 Ninth Street, NW., Room 540, Washington, DC 20425.

Status:

Agenda

I. Approval of Agenda

II. Approval of Minutes of March 21, 2003 Meeting

III. Announcements

IV. Staff Director's Report

V. State Advisory Committee Report: The Grand Junction Report—Issues of Equality in Mesa Valley (Colorado)

VI. Presentations from Eastern Regional State Advisory Committee Members Representing the District of Columbia, Maryland, and Virginia

VII. Future Agenda Items

FOR FURTHER INFORMATION CONTACT: Les Jin, Press and Communications (202) 376-7700.

Debra A. Carr,
Deputy General Counsel.

[FR Doc. 03-8432 Filed 4-2-03; 4:01 pm]

BILLING CODE 6335-01-M